DEPARTMENT OF JUSTICE

Antitrust Division

Notice Pursuant to the National Cooperative Research and Production Act of 1993—IMS Global Learning Consortium, Inc.

Notice is hereby given that, on October 1, 2018, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, AEFIS, Philadelphia, PA; Drieam, Eindhoven, NETHERLANDS; Learning Experiences, Holt, MI; Smart Sparrow, San Francisco, CA; and Willo Labs, Whitetown, IN, have been added as parties to this venture.

Also, American Printing House for the Blind, Louisville, KY; Galena Park Independent School District, Houston, TX; Tennessee Board of Regents, Nashville, TN; SMART Technologies, Calgary, CANADA; Central Massachusetts Collaborative, Worcester, MA; and Accreditrust, Warren, NJ, have withdrawn as parties to this venture.

In addition, Uninett AS has changed its name to Unit—The Norwegian Directorate for ICT and Joint Services in Higher Education and Research, Trondheim, NORWAY; and Chalk & Wire Learning Assessment Inc. has changed its name to Campus Labs, Buffalo, NY.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on July 23, 2018. A notice was published in the Federal Register pursuant to Section 6(b) of the Act on August 13, 2018 (83 FR 40084).

Suzanne Morris,
Chief, Premerger and Division Statistics Unit, Antitrust Division.

[FR Doc. 2018-22248 Filed 10-11-18; 8:45 am]

BILLING CODE 4410-11-P